GENERAL SERVICES ADMINISTRATION

[Notice-MA-2021-05; Docket No. 2021-0002; Sequence No. 27]

Federal Travel Regulation (FTR); Applicability of the Federal Travel Regulation Part 301-13 to Employees Who Are Nursing

AGENCY: Office of Government-wide Policy (OGP), General Services Administration (GSA).

ACTION: Notice of GSA Bulletin FTR 22-03, Applicability of the Federal Travel Regulation Part 301-13 to Employees who are Nursing.

SUMMARY: GSA Bulletin FTR 22-03 provides guidance to agencies subject to the Federal Travel Regulation (FTR) to clarify that “special needs” travel may include reasonable accommodations for employees who breastfeed.

DATES: Applicability Date: This notice is effective upon date of publication.

FOR FURTHER INFORMATION CONTACT: Ms. Jill Denning, Office of Government-wide Policy, Office of Asset and Transportation Management, at travelpolicy@gsa.gov. Please cite Notice of GSA Bulletin FTR 22-03.

SUPPLEMENTARY INFORMATION:

Background

Federal agencies can accommodate an employee's special needs while on temporary duty travel pursuant to the FTR, Part 301-13. Per § 301-13.2, an agency can pay for additional travel expenses to accommodate a special physical need which is either: (a) Clearly visible and discernible; or (b) substantiated in writing by a competent medical authority.

In recent years, agencies and employees have asked whether employees who breastfeed have a special need that agencies may accommodate while the employee is on temporary duty travel (TDY).

Employees who breastfeed and go on official travel orders face a physical challenge that other employees who are not breastfeeding do not. Travel away from home usually requires the employee to be away from the child. While milk can be expressed beforehand and left for a caregiver, sometimes there is not enough to last the duration of the trip and milk must be safely stored and shipped back home.

In order to not force employees to make a choice between nursing or fulfilling work duties, Federal agencies may recognize that a nursing employee on official travel has a special need, as verified per regulatory requirements. Agencies may determine that the special need means that a spouse, nanny, or other attendant can accompany the employee on the trip at Government expense in order to watch the child in between the employee's reasonable break periods to breastfeed while working at the temporary duty station. If no attendant is necessary, an employee on official travel may still need to use services for storage and shipment of breast milk to the child.

GSA Bulletin FTR 22-03 can be viewed in its entirety at https://www.gsa.gov/ftrbulletins.

Krystal J. Brumfield,
Associate Administrator, Office of Government-wide Policy.

[FR Doc. 2021-23397 Filed 10-26-21; 8:45 am]

BILLING CODE P